DEPARTMENT OF DEFENSE

48 CFR Parts 209, 212, 213, 217, 222, and 252

[DFARS Case 97-D314]

Defense Federal Acquisition Regulation Supplement; Veterans Employment Emphasis

AGENCY: Department of Defense (DoD).

ACTION: Final rule.

SUMMARY: DoD has issued a final rule amending the Defense Federal Acquisition Regulation Supplement (DFARS) to remove text pertaining to contractor reporting on employment of veterans, because the reporting requirements have been added to the Federal Acquisition Regulation.

EFFECTIVE DATE: January 29, 2002.

FOR FURTHER INFORMATION CONTACT: Ms. Angelena Moy, Defense Acquisition Regulations Council, OUSD(AT&L)DP(DAR), IMD 3C132, 3062 Defense Pentagon, Washington, DC 20301-3062. Telephone (703) 602-1302; facsimile (703) 602-0350. Please cite DFARS Case 97-D314.

SUPPLEMENTARY INFORMATION:

A. Background

This final rule removes DFARS requirements pertaining to contractor reporting on employment of veterans. The DFARS requirements were published as an interim rule at 63 FR 11850 on March 11, 1998. The DFARS text is no longer necessary, because the reporting requirements were added to the Federal Acquisition Regulation in Item IV of Federal Acquisition Circular 2001-01 on October 22, 2001 (66 FR 53487).

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule merely eliminates requirements that duplicate those found in the Federal Acquisition Regulation.

C. Paperwork Reduction Act

The Paperwork Reduction Act does not apply because the rule does not impose any information collection requirements that require the approval of the Office of Management and Budget under 44 U.S.C. 3501, et seq.

List of Subjects in 48 CFR Parts 209, 212, 213, 217, 222, and 252

Government procurement.

Michele P. Peterson,
Executive Editor, Defense Acquisition Regulations Council.

Therefore, 48 CFR Parts 209, 212, 213, 217, 222, and 252 are amended as follows:

1. The authority citation for 48 CFR Parts 209, 212, 213, 217, 222, and 252 continues to read as follows:

Authority: 41 U.S.C. 421 and 48 CFR Chapter 1.

PART 209—CONTRACTOR QUALIFICATIONS

209.104-1 [Amended]

2. Section 209.104-1 is amended by removing paragraph (g)(iii).

209.104-70 [Amended]

3. Section 209.104-70 is amended by removing paragraph (c).

PART 212—ACQUISITION OF COMMERCIAL ITEMS

212.503 [Amended]

4. Section 212.503 is amended by removing paragraph (a)(xii).

PART 213—SIMPLIFIED ACQUISITION PROCEDURES

213.005 [Removed]

5. Section 213.005 is removed.

PART 217—SPECIAL CONTRACTING METHODS

217.207 [Removed]

6. Section 217.207 is removed.

PART 222—APPLICATION OF LABOR LAWS TO GOVERNMENT ACQUISITIONS

222.1304 [Removed]

7. Section 222.1304 is removed.

PART 252—SOLICITATION PROVISIONS AND CONTRACT CLAUSES

252.209-7003 [Removed and Reserved]

8. Section 252.209-7003 is removed and reserved.

[FR Doc. 02-2056 Filed 1-28-02; 8:45 am]

BILLING CODE 5001-08-U